COMMODITY FUTURES TRADING COMMISSION

Privacy Act of 1974; System of Records

AGENCY: Commodity Futures Trading Commission (CFTC).

ACTION: Proposed routine use; request for public comment.

SUMMARY: The CFTC proposes to adopt a new routine use that would permit disclosure of CFTC records governed by the Privacy Act when reasonably necessary to respond and prevent, minimize, or remedy harm that may result from an agency data breach or compromise.

DATES: The deadline for public comments is October 14, 2008. Comments received after that date will be considered at the CFTC's discretion.

ADDRESSES: Interested parties are invited to submit written comments. Reference should be made to “Privacy Act of 1974; System of Records.” Comments should be mailed or delivered to: Commodity Futures Trading Commission, 1155 21st Street, NW., Washington, DC 20581, Attention: Office of the Secretariat. Comments may be sent by facsimile to 202.418.5521, or by e-mail to secretary@cftc.gov.

FOR FURTHER INFORMATION CONTACT: Gail Scott, Attorney, CFTC, Office of General Counsel, 1155 21st Street, NW., Washington, DC 20581, 202-418-5139, gscott@cftc.gov.

SUPPLEMENTARY INFORMATION: In accordance with the Privacy Act of 1974, 5 U.S.C. 552a, and as recommended in the Office of Management and Budget Memorandum M-07-16 (Attachment 2), this document provides public notice that the CFTC is proposing to adopt a new “routine use” that will apply to all CFTC records systems covered by the Privacy Act of 1974. The Act applies to agency systems of records about individuals that the agency maintains and retrieves by name or other personal identifier, such as its personnel and payroll systems and certain other CFTC records systems. A list of the agency's current Privacy Act systems of records can be viewed on the CFTC's Web site at: http://www.cftc.gov/lawandregulation/federalregister/systemsofrecords/index.htm. The new routine use would be added to the section General Statement of Routine Uses, which describes routine uses that apply globally to all CFTC Privacy Act records systems.

This new routine use is needed in order to allow for disclosure of records to appropriate persons and entities for purposes of response and remedial efforts in the event of a breach of data contained in the protected systems. This routine use will facilitate an effective response to a confirmed or suspected breach by allowing for disclosure to individuals affected by the breach, in cases, if any, where such disclosure is not otherwise authorized under the Act. This routine use will also authorize disclosures to others who are in a position to assist in response efforts, either by assisting in notification to affected individuals or otherwise playing a role in preventing, minimizing, or remedying harms from the breach.

The Privacy Act authorizes the agency to adopt routine uses that are consistent with the purpose for which information is collected and subject to that Act. 5 U.S.C. 552a(b)(3); see also 5 U.S.C. 552a(a)(7). The CFTC believes that it is consistent with the collection of information pertaining to such individuals to disclose Privacy Act records when, in doing so, it will help prevent, minimize or remedy a data breach or compromise that may affect such individuals. By contrast, the CFTC believes that failure to take reasonable steps to help prevent, minimize the harm that may result from such a breach or compromise would jeopardize, rather than promote, the privacy of such individuals. Accordingly, the Commission concludes that it is authorized under the Privacy Act to adopt a routine use permitting disclosure of Privacy Act records for such purposes.

In accordance with the Privacy Act, see 5 U.S.C. 552a(e)(4) and (11), the CFTC is publishing notice of this routine use and giving the public a 30-day period to comment before adopting it as final. The CFTC is also providing at least 40 days advance notice of this proposed system notice amendment to OMB and the Congress, as required by the Act, 5 U.S.C. 552a(r), and OMB Circular A-130, Revised, Appendix I. We note that the text of this routine use is taken from the routine use that has already been published in final form by the Department of Justice after public comment. See 72 FR 3410 (Jan. 25, 2007). Similarly, after taking into account comments, if any, received by the CFTC, the CFTC intends to publish its proposed routine use as final after the period for OMB and Congressional review is complete, including whatever revisions may be deemed appropriate or necessary, if any.

Accordingly, the CFTC hereby proposes to amend the section General Statement of Routine Uses of its Privacy Act system notices, as published at 66 FR 41842, by adding the following new routine use at the end of the existing routine uses set forth in that Appendix:

* * * * *

To appropriate agencies, entities, and persons when (1) the CFTC suspects or has confirmed that the security or confidentiality of information in the system of records has been compromised; (2) the CFTC has determined that as a result of the suspected or confirmed compromise there is a risk of harm to economic or property interests, identity theft or fraud, or harm to the security or integrity of this system or other systems or programs (whether maintained by the CFTC or another agency or entity) that rely upon the compromised information; and (3) the disclosure made to such agencies, entities, and persons is reasonably necessary to assist in connection with the CFTC's efforts to respond to the suspected or confirmed compromise and prevent, minimize, or remedy such harm.

By direction of the Commission on September 8, 2008.
David A. Stawick,
Secretary of the Commission.

[FR Doc. E8-21116 Filed 9-10-08; 8:45 am]

BILLING CODE 6351-01-P